DEPARTMENT OF JUSTICE

Notice of Lodging of Consent Decree Under the Comprehensive Environmental Response, Compensation, and Liability Act

Notice is hereby given that on July 30, 2008, a proposed consent decree in United States v. Morrison Enterprises, LLC, and Cooperative Producers, Inc., Civil Action No. 8:08-00332-JFB-TDT, was lodged with the United States District Court for the District of Nebraska.

In this action, the United States sought an order requiring defendants to perform the Environmental Protection Agency's (EPA) selected environmental remedy and to reimburse the United States for costs incurred and to be incurred, in response to releases and threatened releases of hazardous substances into the environment at and from the FAR-MAR-CO Subsite of the Hastings Ground Water Contamination Site in Hastings, Nebraska. The Subsite consists of a grain operations facility, where ground water is contaminated by carbon tetrachloride and ethylene dibromide. The Consent Decree provides that defendants will perform the remedial action at the Site, pay $32,287 in past response costs, which represents 100% of EPA's past costs, and pay future response costs.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States v. Morrison Enterprises, LLC, and Cooperative Producers, Inc., Civil Action No. 8:08-00332-JFB-TDT, D.J. Ref. No. 90-11-3-431/2.

The decree may be examined at the Office of the United States Attorney, District of Nebraska, 1620 Dodge Street, Suite 1400, Omaha, Nebraska, 68102. During the comment period, the Consent Decree may be examined on the following Department of Justice website: http://www.usdoj.gov/enrd/Consent_Decrees.html . A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $38.00 (25 cents per page reproduction cost) payable to the United States Treasury or, if by e-mail or fax, forward a check in that amount to the Consent Decree Library at the stated address.

Robert E. Maher, Jr.,
Assistant Section Chief Environmental Enforcement Section, Environment and Natural Resources Division.

[FR Doc. E8-18044 Filed 8-5-08; 8:45 am]

BILLING CODE 4410-15-P